DEPARTMENT OF AGRICULTURE

Forest Service

Okanogan and Wenatchee National Forests Resource Advisory Committee

AGENCY: Forest Service, USDA.

ACTION: Notice of meeting.

SUMMARY: The Wenatchee-Okanogan Resource Advisory Committee will meet on Wednesday, August 29, and Monday, September 10 at the Okanogan and Wenatchee National Forest Headquarters Office, 215 Melody Lane, Wenatchee, WA. These meetings will begin at 9 a.m. and continue until 3 p.m. On August 29, 2007, committee members will review Okanogan County and Yakima County projects, and on September 10, 2007 committee members will review Chelan County and Kittitas County projects for Resource Advisory Committee consideration under Title II of the Secure Rural Schools and Community Self-Determination Act of 2000. All Wenatchee-Okanogan Resource Advisory Committee meetings are open to the public. Interested citizens are welcomed to attend.

FOR FURTHER INFORMATION CONTACT: Direct questions regarding this meeting to Paul Hart, Designated Federal Official, USDA, Wenatchee National Forest, 215 Melody Lane, Wenatchee, Washington 98801, (509) 664-9200.

August 10, 2007.
Paul Hart,
Designated Federal Official, Okanogan and Wenatchee National Forests.

[FR Doc. 07-4006 Filed 8-15-07; 8:45 am]

BILLING CODE 3410-11-M